Title 3—

The President

Proclamation 7283 of March 24

Greek Independence Day: A National Day of Celebration of Greek and American Democracy, 2000

By the President of the United States of America

A Proclamation

Two thousand five hundred years ago, the birth of democracy in Greece ushered in one of the true golden ages of Western civilization. The flowering of political, social, and artistic innovation in Greece served as the source of many of our most treasured gifts—the philosophy of Plato and Socrates, the plays of Sophocles and Aristophanes, the heroic individualism that rings in the epic poetry of Homer.

But Ancient Greece's greatest legacy is the establishment of democratic government. America's founders were deeply influenced by the passion for truth and justice that guided Greek political theory. In ratifying our Constitution, they forever enshrined these principles in American law and created a system of government based on the Hellenic belief that the authority to govern derives directly from the people.

While our democracy has its roots in Greek thought, the friendship between our two nations flows from our shared values, common goals, and mutual respect. This kinship with the Greek people was reflected in the enthusiasm with which America embraced modern Greece's fight for independence 179 years ago. Many Americans fought alongside the Greeks, while stirring speeches by President James Monroe and Daniel Webster led the Congress to send funds and supplies to aid the Greeks in their struggle for freedom.

Our alliance with Greece has remained strong. Together we have stood up to the forces of oppression in conflicts from World War II to the Persian Gulf, we have joined as strategic partners in NATO, and we have worked to build peace, stability, and prosperity in the Balkans. Through decades of challenge and change, our friendship has endured and deepened, and together we have proved the fundamental truth of the Greek proverb, “The passion for freedom never dies.”

That passion for freedom has also beckoned generations of Greek men and women to America's shores, and today we celebrate and give thanks for the myriad contributions Greek Americans have made to our national life. More than a million citizens of Greek descent live in America today, and their devotion to family, faith, community, and country has enriched our society immeasurably.

NOW, THEREFORE, I, WILLIAM J. CLINTON, President of the United States of America, by virtue of the authority vested in me by the Constitution and the laws of the United States, do hereby proclaim March 25, 2000, as Greek Independence Day: A National Day of Celebration of Greek and American Democracy. I call upon all Americans to observe this day with appropriate ceremonies, activities, and programs.

IN WITNESS WHEREOF, I have hereunto set my hand this twenty-fourth day of March, in the year of our Lord two thousand, and of the Independence of the United States of America the two hundred and twenty-fourth.

wj

[FR Doc. 00-7900

Filed 03-28-00; 8:45 am]

Billing code 3195-01-P